FEDERAL COMMUNICATIONS COMMISSION

[OMB 3060-0704; FR ID 307367]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before October 14, 2025. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-0704.

Title: Sections 42.10, 42.11, 64.1900 and Section 254(g): Policies and Rules Concerning the Interstate, Interexchange Marketplace.

Form Number: N/A.

Type of Review: Extension of a currently-approved collection.

Respondents: Business or other for-profit.

Number of Respondents and Responses: 700 respondents; 2,800 responses.

Estimated Time per Response: 0.50-1 hour.

Frequency of Response: Annual reporting requirements, third party disclosure requirements and recordkeeping requirement.

Obligation to Respond: Required to obtain or retain benefits. Statutory authority for this information collection is contained in sections 1, 4(i), 10, 201-205, 215, 218-220, 226, and 254(g) of the Communications Act of 1934, as amended, 47 U.S.C. 151-154, 160, 201-205, 215, 218-220, 226, and 254(g).

Total Annual Burden: 2,450 hours.

Total Annual Cost: No cost.

Needs and Uses: In the 1996 Second Report and Order, CC Docket 96-61, the Commission adopted mandatory detariffing for the interstate, domestic interexchange services of nondominant interexchange carriers (IXCs). This information collection is necessary to provide consumers ready access to information concerning the rates, terms, and conditions governing the provision of these services in a detariffed and increasingly competitive environment. The information collected under the information disclosure requirement and the internet posting requirement ensure that consumers have access to the information they need to select a telecommunications carrier, and the information collected under the recordkeeping and certification requirements will be used by the Commission to ensure that affected IXCs fulfill their obligations under the Communications Act, as amended.

Federal Communications Commission.
Marlene Dortch,
Secretary, Office of the Secretary.

[FR Doc. 2025-15241 Filed 8-11-25; 8:45 am]

BILLING CODE 6712-01-P